DEPARTMENT OF JUSTICE

National Institute of Corrections

Solicitation for a Cooperative Agreement: Curriculum Development for Women Offenders; Developing an Agency-Wide Approach

AGENCY: National Institute of Corrections, U.S. Department of Justice.

ACTION: Solicitation for a Cooperative Agreement.

SUMMARY: The National Institute of Corrections (NIC) is seeking applications from organizations, groups or individuals to enter into a cooperative agreement for an 18-month period for the development and piloting of a curriculum specific to working with justice involved women. NIC has developed and delivered a number of training programs specific to management of women offenders. Each such program targets varied audiences and objectives, all with the common goal of improving justice system and individual outcomes for women offenders in the criminal justice system. Since the original “Women Offenders: Developing an Agency-Wide Approach” was delivered, significant findings specific to women have emerged, increasing our understanding of the risk, needs, and strengths of this population. This solicitation is for the development of a blended-learning curriculum that can be used to guide correctional leadership teams representing jails, prisons, and/or community corrections in planning an agency-wide process for the effective management of justice involved women. The curriculum will incorporate research-based information and will reflect adult learning theory using blended learning and Web-based technology.

DATES: Applications must be received by 4 p.m., E.D.T., August, 22, 2011.

ADDRESSES: Mailed applications must be sent to: Director, National Institute of Corrections, 320 First Street, NW., Room 5002, Washington, DC 20534. Applicants are encouraged to use Federal Express, UPS, or similar service to ensure delivery by the due date.

Hand delivered applications should be brought to 500 First St., NW., Washington, DC 20534. At the front security desk, dial 7-3106, ext. 0 for pickup. Faxed or e-mailed applications will not be accepted. Electronic applications can only be submitted via http://www.grants.gov.

FOR FURTHER INFORMATION CONTACT: A copy of this announcement and links to the required application forms can be downloaded from the NIC Web site at http://www.nicic.gov/cooperative agreements.

All technical or programmatic questions concerning this announcement should be directed to Maureen Buell, Correctional Program Specialist, National Institute of Corrections, Administrative Division. Ms. Buell can be reached directly at 1-800-995-6423 ext. 40121 or by e-mail at mbuell@bop.gov. In addition to the direct reply, all questions and responses will be posted on NIC's Web site at http://www.nicic.gov for public review (the names of those submitting questions will not be posted). The Web site will be updated regularly and postings will remain on the Web site until the closing date of this cooperative agreement solicitation. Only questions received by 12 p.m. (E.D.T.) on August 17, 2011 will be answered.

SUPPLEMENTARY INFORMATION:

Overview: The curriculum “Women Offenders: Developing an Agency Approach” was originally developed in 2002 and since that time a number of program modules have been revised to reflect emerging information and practices. This curriculum has been offered to agency leaders with roles in developing and/or implementing policy within their organizations. The final product from this solicitation will reflect the emerging research and use a blended-learning format.

Over the past decade there have been significant contributions to correctional practices with evidence-based research and knowledge. More recently, emerging research has identified areas that contribute to women's risk in institutional and/or community corrections settings. Some of these areas include housing safety, history of family conflict, victimization as a child and adult, dysfunctional relationships, and parental stress among other areas. Also factored in are areas of strength and resiliency which, when applied properly, can contribute to an agencies' case management and supervision strategies with a focus remaining on staff, offender, institutional and community safety. Through the incorporation of this information in professional development programs, agencies can become better equipped to manage a population that has increased dramatically since the 1990s and brings a unique set of challenges yet present reduced levels of risk to correctional and community settings.

Background: Since the 1970s, rates of women's involvement in criminal justice has increased dramatically and more recently surpassed the rate at which men have been entering the system. From 1995 to 2005, the total number of female prisoners increased 57% compared to 34% increase for male prisoners (Harrison & Beck [2006] Prison and Jail Inmates at Midyear 2005 [NCJ Publication No. 213133]), primarily for drug and property related offenses. At years end 2008, 35% of women were serving sentences for violent offenses versus 53% of men; 29% of women were serving sentences for property crimes and 26% for drug-related crimes versus 17% of men for both property crime and drug offenses (BJS, West, H. and Sabol W, December 2010, NCJ 231675), respectively. Other state and federal legislation has had severe consequences for women with children in both incarcerative and community-based settings. The impact of these legislative changes is often not well understood by correctional policymakers. The Adoption and Safe Families Act of 1993, Temporary Assistance for Needy Families (TANF), and public housing restrictions are just some of the laws that have unintended consequences for justice-involved women. According to a 2009 report from Bureau of Justice Statistics, since 1991, the number of children with a mother in prison has more than doubled, up 131%, while the number of children with a father in prison has grown by 77%. This finding reflects a faster rate of growth in the number of mothers held in state and federal prisons (up 122%), compared to the number of fathers (up 76%) between 1991 and midyear 2007 (Parents in Prison and Their Minor Children, Glaze, L. and Maruschak, L. April, 2008 NCF #222984). This is significant for both justice-involved men and women but is rarely reflected in correctional policy and practice. Other significant legislation has been the criminalization in all 50 states of sexual misconduct between staff and inmates and the Prison Rape Elimination Act (PREA). Although the original legislation was not specifically focused on women, the research that has since emerged on women via PREA has informed how we view sexual safety and predatory behavior involving offender-to-offender and staff-to-women offender offenses in correctional settings. Historically, correctional practices have been developed to meet the needs of the larger, male offender population, with the assumption that they should work equally well for men and women. Correctional practice has begun to incorporate some of the findings from the evidence-based research around risk reduction, and where correctly applied, it has resulted in improving policy and practice for male and female populations. However, many of the current correctional practices also have had the unintended consequence of driving women deeper into the system; particularly those with significant trauma histories, parental responsibilities, and lower levels of risk. With the emergence of gender-informed research and knowledge, identifying areas of risk and need more relevant to women has provided opportunities to focus and sharpen our practices in managing women with the objective of improving both intermediate and distal outcomes.

Over the years, NIC has been in a position to work closely with policy makers, practitioners, academics, researchers and private/public entities that work with or are interested in gender-informed practices with women. As a result, NIC has launched a number of initiatives focused on women in pretrial, jails, prisons and community-based supervision settings. These initiatives include validated women's risk and need assessments, the Women Offender Case Management Model, and the Gender-Informed Practices assessment (for more information go to http://www.nicic.gov/womenoffenders). A recent draft document from the National Resource Center for Justice Involved Women (NRCJIW) identified ten areas that corrections professionals should be aware of when developing policy and practice with respect to women. These areas include: (a) The rate at which women are entering the criminal justice system while demonstrating a reduced risk to public safety; (b) correctional practices considered to be gender-neutral have been built around the management of male offenders, yet approaches that are gender-responsive increase the potential for improved outcomes; (c) policy and practice should reflect women's risk, needs, and strengths, which would contribute to increased success under community supervision; (d) risk/need instruments have not been validated on a female population and do not accurately reflect custody designations or programming targets; (e) justice-involved women have significantly high rates of childhood and adult victimization experiences (physical, verbal, and sexual abuse) which relates to their pathways into the correctional systems as well as informing their day-to-day behaviors; and (f) women with minor children are faced with significant challenges and responsibilities, whether they are incarcerated or under community supervision. This learning has been incorporated into much of NIC's work with women, but as the correctional landscape evolves, changes must be reflected in our products to the field.

Purpose: This solicitation is an opportunity to develop a curriculum specific to women offenders that incorporates the emerging findings, grounded in research and theory, applicable to correctional leadership teams with policymaking or implementation responsibilities. NIC is soliciting applications to develop an evidence-based, gender-informed curriculum with the goal of preparing administrators and managers to develop, enhance, and direct policy that will impact justice-involved women (pretrial, jails, prisons, community supervision) and the systems that manage this population. The curriculum will use a professional instructional design system as well as a learner centered model for effective training. The final deliverable product, reflecting a blended learning style of delivery will result from a collaborative planning process with the National Institute of Corrections and identified subject matter experts.

Scope of Work: The cooperative agreement awardee will design, develop, pilot, revise and finalize a curriculum that will address critical areas of information that are unique to and/or occurring with significant frequency with women and will support agency leaders representing jails, prisons, and/or community corrections organizations in the development and implementation of gender-informed policy and practice.

The curriculum must use a professional model of instructional design that incorporates elements of blended learning and will draw upon the knowledge of subject matter experts and curriculum design specialists. The design should use resources that are cost effective, reduce the number of on-site classroom training days, and incorporate a site assessment of current practices for strengths, challenges, and opportunities that impact planning and implementation processes. The curriculum must identify overall goals and objectives collectively and specifically for each module that will support the participant teams in their agency planning process. The curriculum should incorporate foundational research/knowledge on justice-involved women as well as guidance for sites to conduct gap analysis; plan in the context of fiscal, political, and cultural environments; identify desired change targets and methods to measure success and outcomes; ensure a research/knowledge base for items in the curriculum and use of technology and software where appropriate. The applicant must also develop a plan for selecting a site to implement the pilot curriculum and collecting feedback that will be used to make revisions to finalize the curriculum. This will require choosing subject matter experts to deliver the pilot on site. Additionally, the development of a method of process evaluation is required. These are minimum project requirements.

Key issues and challenges to developing and piloting this curriculum may include: Developing a blended learning design that is flexible enough to adapt to varying levels of participant knowledge, e.g., participants who are familiar with gender-informed research as well as participants who are new to this information; Curriculum that is research based, timely, and incorporates necessary elements to prepare agency management properly in the planning process for establishing gender-informed policy and practice in their agencies; Understanding differences in jail, prison and community corrections environments in the curriculum design; and determining a process for selecting and preparing a pilot site as well as implementation of the curriculum using subject matter experts.

Document Length: The length of the document should be determined by content. Brevity and clarity are encouraged.

Intended Audience: The primary audience for this curriculum is the leadership and management of correctional organizations interested in planning for the implementation of gender-informed policy and practice for their population of justice-involved women.

Distribution: This product is intended to be distributed widely throughout the corrections field and will be available on the NIC Web site free of charge through the NIC Information Center.

Meetings: The cooperative agreement awardee will attend an initial meeting with NIC staff for a project overview and preliminary planning prior to September 30, 2011. This meeting will be held in Washington, DC, or Aurora, CO, both official office sites of National Institute of Corrections. Additionally, the awardee should plan to meet with NIC staff routinely as determined by NIC and the awardee during the course of the cooperative agreement. Meetings will be held no less than quarterly and may be conducted via webinar or in person as agreed upon by NIC and the awardee.

Project Deliverables: The final product will reflect revisions made to the curriculum post-pilot and a plan for process evaluation. The awardee must provide a detailed work plan with timelines and milestones for accomplishing project activities to the assigned NIC staff for approval prior to any work to being performed under this agreement and must designate a point of contact that would serve as the conduit of information between the NIC staff and the awardee.

Document preparation: For all awards in which a document will be a deliverable, the awardee must follow the Guidelines for Preparing and Submitting Manuscripts for Publication as found in the “General Guidelines for Cooperative Agreements,” which will be included in the award package. All final publications submitted for posting on the NIC Web site must meet the federal government's requirement for accessibility (508 PDF and 508 HTML file or other acceptable format). All documents developed under this cooperative agreement must be submitted in draft form to NIC for review prior to the final products are delivered.

Application Requirements: An application package must include OMB Standard Form 424, Application for Federal Assistance; a cover letter that identifies the audit agency responsible for the applicant's financial accounts as well as the audit period or fiscal year under which the applicant operates (e.g. July 1 through June 30); an outline of projected costs with the budget and strategy narratives described in the announcement. The following additional forms must also be included: OMB Standard Form 424A, Budget Information—Non-Construction Programs; OMB Standard Form 424B, Assurances—Non—Construction Programs (both available at http://www.grants.gov); DOJ/FBOP/NIC Certification Regarding Lobbying, Debarment, Suspension and Other Responsibility Matters; and the Drug-Free Workplace Requirements (available at http://www.nicic.gov/Downloads/general/certif-frm.pdf).

Applications should be concisely written, typed double spaced, and reference the NIC opportunity number and title referenced in this announcement. If you are hand delivering or submitting via Fed-Ex, please include an original and three copies of your full proposal (program and budget narrative, application forms, assurances, and other descriptions). The original should have the applicant's signature in blue ink. Electronic submissions will be accepted only via http://www.grants.gov.

Place the following at the top of the abstract: Project title; applicant name (legal name of applicant organization); mailing address; contact phone numbers (voice, fax); e-mail address; Web site address, if applicable.

The narrative portion of the application should include, at a minimum: A statement indicating the applicant's understanding of the project's purpose, goals and objectives. The applicant should state this in language other than that used in the solicitation (i.e., do not simply repeat the wording from the solicitation).

Project Design and Implementation: This section should describe the design and implementation of the project and how the key design and implementation issues and challenges will be addressed.

Project Management: Chart of measurable project milestones and timelines for the completion of each milestone.

Capabilities and Competencies: This section should describe the qualifications of the applicant organization and any partner organizations to do the work proposed and the expertise of key staff to be involved in the project. Attach resumes that document relevant knowledge, skills, and abilities to complete the project for the principle investigator and each staff member assigned to the project. If the applicant organization has completed similar projects in the past, please include the URL/Web site or ISBN number for accessing a copy of the referenced work.

Budget: The budget should detail all costs for the project, show consideration for all contingencies for the project, note a commitment to work within the proposed budget, and demonstrate the ability to provide deliverables reasonably according to schedule.

Authority: Public Law 93-415.

Funds Available: NIC is seeking the applicant's best ideas regarding accomplishment of the scope of work and the related costs for achieving the goals of this solicitation. Funds may be used only for the activities that are linked to the desired outcome of the project. The funding amount should not exceed $135,000.

Eligibility of Applicants: An eligible applicant is any state or general unit of government, private agency, educational institution, organization, individual, or team with expertise in the described areas. Applicants must have demonstrated ability to implement a project of this size and scope. To be considered, applicants must demonstrate, at a minimum: (1) In-depth knowledge of research and practice regarding gender-informed (women) and evidence-based practices; (2) in-depth knowledge of practices, programs, and complexities in effectively working with women offenders as well as the system and staff challenges; (3) in-depth knowledge about the risk/need and strengths and capacity for resiliency with justice-involved women; (4) specific examples of expertise in directing project design, implementation, particularly with regard to curriculum development, and training; (5) demonstrated ability to work in collaboration with other experts in the field of gender-informed practices; and (6) ability and capacity to conduct Web-based events.

Review Considerations: Applications will be reviewed by a team. Among the criteria used to evaluate the applications are indication of a clear understanding of the project requirements; background, experience, and expertise of the proposed project staff, including any sub-contractors; effectiveness of an innovative approach to the project; a clear, concise description of all elements and tasks of the project, with sufficient and realistic time frames necessary to complete the tasks; technical soundness of project design and methodology; financial and administrative integrity of the proposal, including adherence to federal financial guidelines and processes; a sufficiently detailed budget that shows consideration of all contingencies for this project and commitment to work with the budget proposed; and indication of availability work with NIC staff.

Review Considerations: Applications received under this announcement will be subject to a collaborative review process. The criteria for the evaluation of each application will be as follows:

Programmatic: 40 Points.

Are all of the tasks and activities adequately covered? Is there a clear description of how each project activity will be accomplished, including major tasks, the strategies to be employed, required staffing, responsible parties, and other required resources? Are there any unique or exceptional approaches, techniques, or design aspects proposed that will enhance the project?

Project Management and Administration: 20 Points.

Does the applicant identify reasonable objectives, milestones, or measures to track progress? Are the proposed management and staffing plans clear, realistic, and sufficient to carry out the project? Is the applicant willing to meet with NIC as specified in the solicitation for this cooperative agreement?

Organizational and Project Staff Background: 30 Points.

Do the skills, knowledge, and expertise of the organization and the proposed project staff demonstrate a high level of competency to carry out the tasks? Does the applicant/organization have the necessary experience and organizational capacity to carry out all goals of the project? If consultants and/or partnerships are proposed, is there a reasonable justification for their inclusion in the project and a clear structure to ensure effective coordination?

Budget: 10 Points.

Is the proposed budget realistic? Does it provide sufficient cost detail/narrative? Does it represent good value relative to the anticipated results? Does the application include a chart that aligns the budget with project activities along a timeline with, at a minimum, quarterly benchmarks? In terms of program value, is the estimated cost reasonable in relation to work performed and project products?

Note: NIC will NOT award a cooperative agreement to an applicant who does not have a Dun and Bradstreet Database Universal Number (DUNS) and is not registered in the Central Contractor Registry (CCR).

Applicants can obtain a DUNS number at no cost by calling the dedicated toll-free request line at 800-333-0505. Applicants who are sole proprietors should dial 866-705-5711 and select option #1.

Applicants may register in the CCR online at the CCR Web site: http://www.ccr.gov. Applicants can also review a CCR handbook and worksheet at this Web site.

Number of Awards: One.

NIC Opportunity Number: 11AD13. This number should appear as a reference line in the cover letter, where the opportunity number is requested on Standard Form 424, and outside of the envelope in which the application is sent.

Catalog of Federal Domestic Assistance Number: 16.601.

Executive Order 12372: This project is not subject to the provisions of Executive Order 12372.

Morris L. Thigpen,
Director, National Institute of Corrections.

[FR Doc. 2011-19561 Filed 8-2-11; 8:45 am]

BILLING CODE 4410-36-P